DEPARTMENT OF COMMERCE

International Trade Administration

[A-570-886, A-557-813, A-549-821]

Notice of Postponement of Preliminary Determinations in Antidumping Duty Investigations: Polyethylene Retail Carrier Bags From the People's Republic of China, Malaysia, and Thailand

AGENCY: Import Administration, International Trade Administration, Department of Commerce.

ACTION: Notice of postponement of preliminary determinations in antidumping duty investigations.

EFFECTIVE DATE: October 29, 2003.

FOR FURTHER INFORMATION CONTACT: Hermes Pinilla (People's Republic of China), David Dirstine (Malaysia) or Lyn Johnson (Thailand), Import Administration, International Trade Administration, U.S. Department of Commerce, 14th Street and Constitution Avenue, NW, Washington, DC 20230; telephone: (202) 482-3477, (202) 482-4033 and (202) 482-5287, respectively.

SUMMARY: The Department of Commerce is postponing the preliminary determinations in the antidumping duty investigations of polyethylene retail carrier bags from the People's Republic of China, Malaysia, and Thailand from November 27, 2003, until January 16, 2004. These postponements are made pursuant to section 733(c)(1)(A) of the Tariff Act of 1930, as amended.

SUPPLEMENTARY INFORMATION:

Postponements of Due Dates for Preliminary Determinations

On July 10, 2003, the Department of Commerce (“the Department”) initiated the antidumping duty investigations of imports of polyethylene retail carrier bags from the People's Republic of China, Malaysia, and Thailand. See Initiation of Antidumping Duty Investigations: Polyethylene Retail Carrier Bags From The People's Republic of China, Malaysia, and Thailand, 68 FR 42002 (July 16, 2003). In accordance with section 733(b)(1)(A) of the Tariff Act of 1930, as amended (“the Act”), the notice of initiation stated that the Department would issue its preliminary determinations no later than 140 days after the date of initiation, or November 27, 2003. See id.

On October 16, 2003, the petitioners, the Polyethylene Retail Carrier Bag Committee and its individual members, PCL Packaging, Inc., Sonoco Products Company, Superbag Corp., Vanguard Plastics, Inc., and Inteplast Group, Ltd., made a request for a 50-day postponement of the preliminary determinations, pursuant to section 733(c)(1)(A) of the Act and 19 CFR 351.205(e). Under section 733(c)(1)(A) of the Act, if the petitioners make a timely request for an extension of the period within which the preliminary determination must be made under subsection 733(b)(1), the Department may postpone making its preliminary determination by no more than 50 days after the date on which the preliminary determination is normally due. Petitioner's request for postponement was timely, and the Department finds no compelling reason to deny the request. Therefore, in accordance with section 733(c)(1) of the Act, the Department is postponing the deadlines for issuing the preliminary determinations.

January 16, 2004, is 50 days from November 27, 2003, and therefore, in accordance with section 733(c)(1)(A) of the Act, the Department is postponing the preliminary determinations in these investigations until January 16, 2004.

This notice is issued and published pursuant to section 733(c)(2) of the Act and 19 CFR 351.205(f).

Dated: October 23, 2003.
James J. Jochum,
Assistant Secretary for Import Administration.

[FR Doc. 03-27247 Filed 10-28-03; 8:45 am]

BILLING CODE 3510-DS-P